DEPARTMENT OF VETERANS AFFAIRS

[OMB Control No. 2900-0736]

Agency Information Collection (Authorization To Disclose Personal Beneficiary/Claimant Information to a Third Party) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before July 26, 2013.

ADDRESSES: Submit written comments on the collection of information through www.Regulations.gov or to VA's OMB Desk Officer, OMB Human Resources and Housing Branch, New Executive Office Building, Room 10235, Washington, DC 20503 (202) 395-7316. Please refer to “OMB Control No. 2900-0736” in any correspondence.

FOR FURTHER INFORMATION CONTACT: Crystal Rennie, Enterprise Records Service (005R1B), Department of Veterans Affairs, 810 Vermont Avenue NW., Washington, DC 20420, (202) 632-7492, Fax (202) 632-7634 or via email at crystal.rennie@va.gov. Please refer to “OMB Control No. 2900-0736.”

SUPPLEMENTARY INFORMATION: Title: Authorization to Disclose Personal Beneficiary/Claimant Information to a Third Party, VA Form 21-0845.

OMB Control Number: 2900-0736.

Type of Review: Extension of a currently approved collection.

Abstract: VA Form 21-0845 will be used to release information in the following circumstances: where the individual identifies the particular information and consents to its use; for the purpose for which it was collected or a consistent purpose (i.e. a purpose which the individual might have reasonably expected).

An agency may not conduct or sponsor, and a person is not required to respond to a collection of information unless it displays a currently valid OMB control number. The Federal Register Notice with a 60-day comment period soliciting comments on this collection of information was published on February 26, 2013, at pages 13158-13159.

Affected Public: Individuals or households.

Estimated Annual Burden: 1,667 hours.

Estimated Average Burden per Respondent: 5 minutes.

Frequency of Response: On occasion.

Estimated Number of Respondents: 20,000.

Dated: June 21, 2013.
By direction of the Secretary.
Crystal Rennie,
VA Clearance Officer, U.S. Department of Veterans Affairs.

[FR Doc. 2013-15231 Filed 6-25-13; 8:45 am]

BILLING CODE 8320-01-P